FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Acting Executive Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
ALABAMA
Baldwin County (Unincorporated Areas) (FEMA Docket Nos. D-7512 & D-7514)
Fish River:
Approximately 420 feet upstream of Threemile Creek | *104
At the upstream side of U.S. Route 51 (State Highway 59) | *196
Perone Branch:
At confluence with Fish River | *34
At State Highway 59 | *145
Styx River:
At confluence with Perdido River | *9
At Brady Road (Truck Route 17) | *77
Mobile Bay:
Approximately 200 feet south of intersection of Fort Morgan Road and Dune Drive | *7
Approximately 0.6 mile west of the intersection of Main Street and Bel Air Drive | *19
Bon Secour Bay:
Southeast corner of intersection of Veterans Road and State Route 180 | *9
Approximately 300 feet west of the intersection of Bay Road North and Beach Road | *15
Gulf of Mexico:
At intersection of Ono Boulevard and Pompano Key Drive | *7
Approximately 500 feet south of the intersection of Ponce de Leon Court and Choctow Road | *15
Perdido Bay:
Approximately 250 feet northwest of the intersection of Magnolia Street and Mobile Avenue | *4
Approximately 1.1 miles east of the intersection of Boykin Boulevard and Azalea Street | *9
Wolf Bay:
Approximately 500 feet south of the intersection of State Route 95 and East Quarry Drive | *5
Approximately 0.9 mile north of the intersection of Gulf Bay Road and Wolf Bay Terrace | *9
Weeks Bay:
Approximately 1,000 feet south of intersection of Yupon Lane and Gavin Lane | *11
Approximately 500 feet west of intersection of Yupon Lane and Gavin Lane | *11
Oyster Bay:
Approximately 2,750 feet north of intersection of Old Fort Morgan Trail | *10
Approximately 0.6 mile north of intersection of Quail Run and Oyster Bay Lane | *14
Maps available for inspection at the Baldwin County Building Department, 201 East Section Street, Bay Minette, Alabama.
———
Bay Minette (City), Baldwin County (FEMA Docket No. D-7512)
McCurtin Creek Tributary:
Approximately 1,725 feet upstream of Rock Hill Road | *216
At dam | *221
Maps available for inspection at the City Hall, 301 D'Olive Street, Bay Minette, Alabama.
———
Daphne (City), Baldwin County (FEMA Docket No. D-7512)
D'Olive Creek:
At the confluence with D'Olive Bay | *13
Approximately 100 feet downstream of Lake Forest Dam | *13
Mobile Bay:
Approximately 2,500 feet west of the intersection of Main Street and Bel Air Drive | *19
At the intersection of Oak Bluff Drive and Maxwell Avenue | *13
Maps available for inspection at the Building Inspector's Office, 1705 Main Street, Daphne, Alabama.
———
Fairhope (City), Baldwin County (FEMA Docket No. D-7512)
Mobile Bay:
Approximately 900 feet west of the intersection of Main Street and Chapman Street | *17
At the intersection of Pecan Avenue and Mobile Street | *11
Maps available for inspection at the Building Department, 161 North Section Street, Fairhope, Alabama.
———
Gulf Shores (Town), Baldwin County (FEMA Docket No. D-7512)
Gulf of Mexico:
Approximately 250 feet south of the intersection of State Park RD 2 and Branyon Loop | *8
Approximately 500 feet southeast of the intersection of West Beach Boulevard and Sand Dollar Lane | *15
Bon Secour Bay:
Approximately 0.7 mile east of intersection of Galloway Lane and Fort Morgan Road | *10
At most northwest corner of the Gulf Shores corporate limits along the Bon Secour Bay shoreline | *15
Oyster Bay:
Approximately 250 feet north of intersection of Quail Run West and Oyster Bay Lane | *10
Approximately 0.4 mile north of intersection of Quail Run West and Oyster Bay Lane | *14
Maps available for inspection at the Community Development Department, 1905 West First Avenue, Gulf Shores, Alabama.
———
Orange Beach (City), Baldwin County (FEMA Docket No. D-7512)
Gulf of Mexico:
Approximately 400 feet south of the intersection of Perdido Beach Boulevard and Polaris Street | *8
Approximately 1,000 feet south of the intersection of East Beach Boulevard and Hocklander Lane | *15
Perdido Bay:
Intersection of Mobile Avenue and Camey Drive | *6
Approximately 350 feet southeast of intersection of Jackson Avenue and Burkart Drive | *9
Wolf Bay:
At intersection of Hickory Lane and Canal Road | *6
Approximately 1,250 feet north of the intersection of Magnolia Avenue and Bay Circle | *8
Maps available for inspection at the Building Department, 4099 Orange Beach Boulevard, Orange Beach, Alabama.
———
Spanish Fort (City), Baldwin County (FEMA Docket No. D-7512)
Mobile Bay:
Approximately 0.4 mile west of the intersection of Spanish Main and Bull Run Road | *15
Approximately 500 feet west of intersection of Caisson Trail and Spanish Main | *13
Maps available for inspection at the City of Spanish Fort Flood Protection Administrator's Office, 7581 Spanish Fort Boulevard, Spanish Fort, Alabama.
CONNECTICUT
Enfield (Town), Hartford County (FEMA Docket No. D-7512)
Waterworks Brook:
Approximately 140 feet downstream of breached dam | *54
Approximately 500 feet upstream of Elm Street | *124
Terry Brook:
At the confluence with the Scantic River | *117
Approximately 250 feet upstream of Somers Road | *204
Maps available for inspection at the Enfield Town Engineer's Office, 820 Enfield Street, Enfield, Connecticut.
———
Marlborough (Town), Hartford County (FEMA Docket No. D-7512)
Blackledge River:
Approximately 2,620 feet upstream of West Road | *352
Approximately 550 feet upstream of Jones Hollow Bridge | *384
Fawn Brook:
Approximately 210 feet upstream of confluence with Blackledge River | *180
Approximately 2,925 feet upstream of South Main Street | *193
Unnamed Tributary of Dickinson Creek:
At confluence with Dickinson Creek | *419
A point approximately 660 feet upstream of State Route 2 | *423
Maps available for inspection at the Marlborough Town Planner's Office, Town Hall, 26 North Main Street, Marlborough, Connecticut.
FLORIDA
Astatula (Town), Lake County (FEMA Docket No. D-7508)
Little Lake Harris:
Entire shoreline within community | *64
Maps available for inspection at the Town of Astatula Clerk's Office, 25019 CR 561, Astatula, Florida.
———
Clermont (City), Lake County (FEMA Docket No. D-7508)
Wilma Lake North:
Entire shoreline within community | *91
Lake Felter:
Entire shoreline within community | *89
Wilma Lake South:
Approximately 1,900 feet northeast of intersection of State Route 25 and Steves Road | *90
Maps available for inspection at the City of Clermont Planning & Zoning Department, 1 Westgate Plaza, Clermont, Florida.
———
Eustis (City), Lake County (FEMA Docket No. D-7508)
Ponding Area H5B:
Entire shoreline within community | *70
Lake Eustis:
Entire shoreline within community | *64
Maps available for inspection at the City of Eustis Building Department, 10 North Grove Street, Eustis, Florida.
———
Franklin County (Unincorporated Areas) (FEMA Docket No. D-7512)
Apalachicola Bay:
Approximately 2.6 miles southeast of West Pass | *8
Approximately 4.1 miles southwest of Government Cut in St. George Island | *10
St. George Sound:
Just east of St. George Island Bridge | *10
Shoreline of St. George Island at (and include) Marsh Island | *12
Gulf of Mexico:
Approximately 2.6 miles southeast of West Pass | *8
Approximately 1.5 miles southeast of the confluence of Big Claires Creek with Ochlockonee Bay | *23
Alligator Harbor:
Approximately 1,000 feet north of the intersection of State Route 370 and West Harbor Circle | *16
Approximately 900 feet east of Peninsula Point | *17
Maps available for inspection at the Planning and Engineering Department, 33 Commerce Street, Apalachicola, Florida.
———
Fruitland Park (City), Lake County (FEMA Docket No. D-7508)
Dream Lake:
Entire shoreline within community | *73
Fountain Lake East:
Entire shoreline within community | *86
Lake Gem:
Entire shoreline within community | *91
Lake Eustis:
Entire shoreline within community | *64
Fountain Lake West:
Entire shoreline within community | *84
Lake Griffin:
Approximately 1,000 feet northeast of the intersection of Hamlet Court and Picciola Cutoff | *61
Myrtle Lake:
Entire shoreline within community | *72
Maps available for inspection at the City of Fruitland Park City Hall, Building Department, 506 West Berckman Street, Fruitland Park, Florida.
———
Groveland (City), Lake County (FEMA Docket No. D-7508)
Stewart Lake:
Approximately 100 feet northwest of the intersection of Parkwood Road and Gadson Street | *100
Maps available for inspection at the City of Groveland Building Department, 156 South Lake Avenue, Groveland, Florida.
———
Howey in the Hills (Town), Lake County (FEMA Docket No. D-7508)
Ponding Area 455-1:
Approximately 1,000 feet west of the intersection of Marilyn Avenue and Poinsettia Street | *84
Lake Harris:
Entire shoreline within community | *64
Little Lake Harris:
Entire shoreline within community | *64
Maps available for inspection at the Town of Howey in the Hills Town Hall, 101 North Palm Avenue, Howey in the Hills, Florida.
———
Lake County (Unincorporated Areas) (FEMA Docket Nos. D-7508 & D-7512)
Lake Denham:
Entire shoreline within county | *64
Zephyr Lake:
Entire shoreline within county | *109
Spring Lake:
Entire shoreline within county | *74
Unity Lake:
Entire shoreline within county | *64
Ponding Area 07-3:
Entire shoreline within county | *74
Ponding Area 07-5:
Approximately 450 feet northeast of the intersection of Thomas Avenue and U.S. Route 44A | *74
Ponding Area 461-1:
Entire shoreline within county | *87
Ponding Area Q3-4: | *78
Ponding Area G9-1:
Entire shoreline within county | *69
Ponding Area G1-4:
Entire shoreline within county | *65
Ponding Area 725-1:
Entire shoreline within county | *114
Lake Needham:
Entire shoreline within county | *106
Ponding Area 650-1:
Entire shoreline within county | *103
Ponding Area 650-2:
Entire shoreline within county | *105
Ponding Area 525-1:
Entire shoreline within county | *98
Ponding Area 525-2:
Entire shoreline within county | *94
Ponding Area 525-3:
Entire shoreline within county | *95
Lake Harris:
Entire shoreline within county | *64
Ponding Area D 2 E 2: | *84
Ponding Area D 2 B: | *69
Lake Alice:
Entire shoreline within county | *99
Ponding Area E 3 B: | *75
Ponding Area K 1 A: | *74
Ponding Area K 4 1: | *65
Martins Lake:
Approximately 650 feet northwest from the intersection of Old Highway 50 and Forestwood Drive | *89
Ponding Area J-1-1:
Approximately 100 feet west of the intersection of Orange Court and Bay Avenue | *74
Sunset Valley Lake:
Entire shoreline within county | *82
Ponding Area 359-2: | *168
Ponding Area 362-1:
Entire shoreline within county | *80
Lake Tem:
Entire shoreline within county | *81
Ponding Area:
Approximately 250 feet in a southwesterly direction from the intersection of Indianola Drive and Woodland Avenue | *64
Lake Illinois:
Approximately 1,100 feet southwest from the intersection of Magnolia and Cypress Avenues | *79
Ponding Area K-11-3:
Approximately 1,900 feet southwest from Magnolia and Cypress Avenues | *84
Emeralda Marsh:
Entire shoreline within county | *60
Ponding Area 4:
Entire shoreline within county | *74
Dukes Lake:
Entire shoreline within county | *99
Lake Catherine:
Entire shoreline within county | *99
Ponding Area 535-2: | *99
Minneola Annex Pond 1: | *95
Minneola Annex Pond 2: | *97
Ponding Area 395-1:
Entire area within county | *62
Gallows Lake:
Entire shoreline within county | *104
Ponding Area 510-1:
Entire shoreline within county | *95
Little Bluff Lake:
Entire shoreline within county | *99
Lake Douglas:
Entire shoreline within county | *97
Wolf Branch Sink:
Entire area within county | *82
Sorrento Swamp:
Entire shoreline within county | *80
Lake Eustis:
Entire shoreline within county | *64
Leesburg Tributary 1:
Approximately 310 feet downstream of Airport Runway | *64
Approximately 0.61 mile upstream of South Whitney Road | *78
Leesburg Tributary 2:
Approximately 1,000 feet downstream of Youngs Road | *64
Approximately 0.48 mile upstream of State Route 468 | *80
Leesburg Tributary 3:
Approximately 1,400 feet upstream of El Rancho Drive | *64
Approximately 2,050 feet downstream of El Rancho Drive | *77
Lake Griffin:
Entire shoreline within county | *61
Lake Woodward:
Approximately 900 feet north of the intersection of Codding Place and Mt. Mitchell Drive | *74
Park Lake:
Entire shoreline within county | *74
Ponding Area 380-1: | *69
Ponding Area 380-4: | *71
Ponding Area 378-7: | *80
Ponding Area 380-2: | *70
Ponding Area 380-3: | *70
Lake Gary:
Entire shoreline within county | *103
Saw Mill Lake:
Entire shoreline within county | *102
Grassy Lake:
Entire shoreline within county | *85
Little Grassy Lake:
Entire shoreline within county | *90
Lake Idamere:
Entire shoreline within county | *69
Indianhouse Lake West:
Entire shoreline within county | *87
Indianhouse Lake East:
Entire shoreline within county | *87
Ponding Area 395-2: | *55
Ponding Area 378-2: | *161
Ponding Area 378-6: | *86
Ponding Area 378-5: | *108
Ponding Area 378-4: | *120
Ponding Area 378-3: | *150
Lake Maggie: | *154
Lake Tavares:
Entire shoreline within county | *71
Lake Arthur:
Entire shoreline within county | *84
Big Prairie Lake:
Entire shoreline within county | *94
Blacks Still Lake:
Entire shoreline within county | *85
Boggy Marsh:
Entire shoreline within county | *118
Church Lake:
Entire shoreline within county | *88
Lake Nellie:
Entire shoreline within county | *101
Neighborhood Lakes North:
Entire shoreline within county | *60
Neighborhood Lakes South:
Entire shoreline within county | *61
Pike Lake:
Entire shoreline within county | *102
Trout Lake:
Entire shoreline within county | *98
Pine Island Lake:
Entire shoreline within county | *108
Plum Lake:
Entire shoreline within county | *87
Island Road:
Entire shoreline within county | *70
Lake Seneca:
Entire shoreline within county | *78
Lake Madge:
Entire area within county | *80
Sawgrass Bay:
Entire area within county | *106
Lake Spencer:
Entire shoreline within county | *85
Horseshoe Lake (East):
Entire shoreline within county | *89
Horseshoe Lake (West):
Entire shoreline within county | *85
Dilly Marsh:
Entire shoreline within county | *87
Dilly Lake:
Entire shoreline within county | *87
Hancock Bay North:
Entire shoreline within county | *110
Hancock Bay South:
Entire shoreline within county | *114
Hancock Lake:
Entire shoreline within county | *115
Myrtle Lake:
Entire shoreline within county | *72
Lake Lucie:
Entire shoreline within county | *64
Crooked Lake:
Entire shoreline within county | *118
Keene Lake:
Entire shoreline within county | *111
Hidden Lake:
Entire shoreline within county | *112
Stewart Lake:
Entire shoreline within county | *100
Sumner Lake:
Entire shoreline within county | *97
Olsen Lake:
Entire shoreline within county | *100
Crescent Lake:
Entire shoreline within county | *107
Crystal Lake:
Entire shoreline within county | *79
Lake Felter:
Entire shoreline within county | *89
Lake Gertrude:
Entire shoreline within county | *72
Lake Glona:
Entire shoreline within county | *103
Sawgrass Lake:
Entire shoreline within county | *106
Shepherd Lake:
Entire shoreline within county | *86
Square Lake:
Entire shoreline within county | *110
Wash Lake:
Entire shoreline within county | *101
Wilma Lake North:
Entire shoreline within county | *91
Wilma Lake South:
Entire shoreline within county | *90
Island Lake:
Entire shoreline within county | *104
Ponding Area 535-1:
Approximately 500 feet northeast of the intersection of Media Road and County Route 561A | *100
Ponding Area 535-3:
Approximately 500 feet northeast of the intersection of Media Road and County Route 561A | *100
Ponding Area 535-4:
Entire shoreline within county | *99
Wash Pond 1:
Entire shoreline within county | *101
Wash Pond 2:
Entire shoreline within county | *101
Wash Pond 3:
Entire shoreline within county | *101
Wash Pond 4:
Entire shoreline within county | *101
Wash Pond 5:
Entire shoreline within county | *105
Pond Chain 555-1:
Entire shoreline within county | *85
Ponding Area 470-1:
Entire shoreline within county | *88
Ponding Area 345-1: | *82
Ponding Area 455-1:
Entire area within county | *84
Lake 530-1:
Entire shoreline within county | *90
Lake Saunders:
Entire shoreline within county | *78
Wolf Branch:
Approximately 0.49 mile upstream of State Route 46 | *95
At Griffin Lane | *166
Ponding Area 555-1: | *82
Ponding Area 555-2: | *82
Ponding Area 555-3:
Approximately 1,200 feet southwest of the intersection of Arabian Way and Thoroughbred Lane | *90
Lake Ella:
Entire shoreline within county | *70
Lake Umatilla:
Entire shoreline within county | *69
Lake Willie:
Entire shoreline within county | *104
Jacks Lake:
Entire shoreline within county | *89
Lake Ella 170:
Entire shoreline within county | *79
Lake Junietta:
Entire shoreline within county | *68
Ponding Area Q2-1:
Entire shoreline within county | *77
Lake Hermosa:
Entire shoreline within county | *84
Leesburg Unnamed Ponding Area:
Entire shoreline within county | *70
Maps available for inspection at the Lake County Public Works, 123 North Sinclair Avenue, Tavares, Florida.
———
Leesburg (City), Lake County (FEMA Docket No. D-7508)
Leesburg Tributary 2:
From approximately 1,325 feet upstream of Youngs Road | *77
Upstream side of State Route 44 | *81
Lake Denham:
Entire shoreline within county | *64
Ponding Area Q2-1:
Entire shoreline within county | *77
Ponding Area Q-3-4:
Entire shoreline within county | *78
Leesburg Tributary 1:
Approximately 300 feet upstream of South Whitney | *78
Approximately 0.80 mile upstream of South Whitney Road | *79
Maps available for inspection at the City of Leesburg Public Works Department, 413 East North Boulevard, Leesburg, Florida.
———
Minneola (City), Lake County (FEMA Docket No. D-7516)
Plum Lake:
Entire shoreline within county | *87
Ponding Area 535-1: | *100
Ponding Area 535-2: | *99
Little Grassy Lake:
Approximately 0.55 mile northeast of the intersection of Perl Street and Galena Avenue | *90
Grassy Lake:
Entire shoreline within county | *85
Maps available for inspection at the Minneola City Hall, 302 West Pearl Street, Minneola, Florida.
———
Montverde (Town), Lake County (FEMA Docket No. D-7508)
Lake Florence:
Entire shoreline within county | *76
Ponding Area 555-1: | *82
Ponding Area 555-2: | *82
Maps available for inspection at the Montverde Town Hall, 17404 Sixth Street, Montverde, Florida.
———
Mount Dora (City), Lake County (FEMA Docket No. D-7508)
Lake Franklin:
Entire shoreline within county | *106
Lake Nettie:
Entire shoreline within county | *89
Lake John:
Entire shoreline within county | *82
Wolf Branch Sink:
| *82
Lake Woodward:
Approximately 900 feet northeast of the intersection of Codding Place and Mt. Mitchell Drive | *74
Ponding Area 359-1: | *76
Wolf Branch:
At upstream side of Wooden Driveway Bridge | *127
Approximately 200 feet upstream of Country Club Boulevard | *164
Maps available for inspection at the City of Mount Dora Building & Zoning Department, 900 North Donnelly Street, Mount Dora, Florida.
———
Tavares (City), Lake County (FEMA Docket No. D-7508)
Lake Eustis:
Entire shoreline within community | *64
Lake Harris:
Entire shoreline within community | *64
Maps available for inspection at the City of Tavares Planning & Zoning Department, 201 East Main Street, Tavares, Florida.
ILLINOIS
Kendall County (Unincorporated Areas) (FEMA Docket No. D-7514)
Harvey Creek:
From county boundary | *638
At approximately 775 feet upstream of confluence with Little Rock Creek | *617
Maps available for inspection at the Kendall County Planning and Zoning Department, 111 West Fox Street, Yorkville, Illinois.
———
Newark (Village), Kendall County (FEMA Docket No. D-7514)
Dave-Bob Creek:
Approximately 175 feet upstream of confluence with Clear Creek | *620
Approximately 560 feet upstream of Chicago Road | *663
Maps available for inspection at the Village of Newark Building Department, 101 West Lions Street, Newark, Illinois.
———
Sandwich (City), DeKalb County (FEMA Docket No. D-7514)
Harvey Creek:
Approximately 775 feet upstream of Little Rock Creek | *617
At Dayton Street | *640
Maps available for inspection at the City Engineering Office, 144 East Railroad Street, Sandwich, Illinois.
INDIANA
Grant County (Unincorporated Areas) (FEMA Docket No. D-7512)
Lugar Creek:
At the confluence with Mississinewa River | *794
At confluence with Monroe Ditch and Tippey Ditch | *835
Monroe Ditch:
At the confluence with Lugar Creek | *835
A point approximately 1.4 miles upstream of State Route 700 | *851
Tippey Ditch:
At the confluence with Lugar Creek | *835
Downstream side of Bradford Pike | *841
Mississinewa River:
Approximately 0.4 mile downstream of State Routes 9 and 37 | *784
Approximately 1,600 feet upstream of confluence of Bean Run | *824
Maps available for inspection at the Grant County Area Planning Office, 401 South Adams Street, Marion, Indiana.
MAINE
Lebanon (Town), York County (FEMA Docket No. D-7512)
Salmon Falls River:
At downstream corporate limits | *190
At upstream corporate limits | *421
Maps available for inspection at the Lebanon Code Enforcement Office, 655 Upper Guinea Road, Lebanon, Maine.
———
York (Town), York County (FEMA Docket No. D-7508)
Atlantic Ocean:
Approximately 900 feet southeast of the intersection of Hiram Street and Willard Street | *22
Approximately 1,000 feet southeast of Bayview Avenue and Long Sands Road | *10
Shallow Flooding Area:
Approximately 150 feet northeast of the intersection of Ocean Avenue and Marietta Avenue | #2
Approximately 300 feet southwest of the #1 intersection of Nubble Road and Long Beach Avenue along the west side of Long Beach Avenue | #1
Along Shore Road in the vicinity of Phillips Cove | #1
Approximately 1,350 feet southeast of the #1 intersection of Shore Road and Agamenticus Avenue in the vicinity of Pint Cove | #1
Along Bay Haven Road in the vicinity of Cape Neddick Harbor
Along York Street, south of Long Sands Road, in the vicinity of Little River | #1
Approximately 1,700 feet south of intersection of Seabreeze Lane and Surf Point Road | #1
Cape Neddick River:
At Shore Road | *10
Approximately 650 feet downstream of U.S. Route 1 | *10
Maps available for inspection at the York Town Planner's Office, 186 York Street, York, Maine.
MASSACHUSETTS
Westwood (Town), Norfolk County (FEMA Docket No. D-7512)
Bubbling Brook:
Approximately 40 feet upstream of the confluence with Pettee Pond | *144
Approximately 800 feet upstream of North Street | *228
Mill Brook:
Approximately 40 feet upstream of confluence with Pettee Pond | *144
Approximately 1,000 feet upstream of Hartford Street | *236
Purgatory Brook:
At Everett Street | *66
Approximately 1.19 miles upstream of Gay Street | *175
South Brook:
At the confluence with Purgatory Brook | *67
Downstream side of East Street | *76
Maps available for inspection at the Westwood Building Department, 50 Corby Street, Westwood, Massachusetts.
MINNESOTA
Blaine (City), Anoka County (FEMA Docket No. D-7512)
County Ditch 41 (Sand Creek):
At upstream side of 117th Avenue | *892
Approximately 1,100 feet upstream of State Route 65 | *895
County Ditch 60 (Branch 1):
Approximately 350 feet downstream of Jefferson Street | *894
At State Route 14/downstream side of Polk Street | *895
Pleasure Creek:
Approximately 450 feet upstream of University Avenue | *892
At 98th lane | *893
Maps available for inspection at the City of Blaine Administrative Office, Engineering Department, 9150 Central Avenue Northeast, Blaine, Minnesota.
NEW HAMPSHIRE
Conway (Town), Carroll County (FEMA Docket No. D-7512)
Kearsarge Brook:
At the Conway Scenic Railroad bridge | *471
Approximately 0.36 mile upstream of Cranmore Road bridge | *550
Pequawket Pond:
Entire shoreline within community | *464
Maps available for inspection at the Town Hall, 1634 East Main Street, Center Conway, New Hampshire.
Nashua (City), Hillsborough County (FEMA Docket No. D-7506)
Nashua River:
At the downstream side of B&M Railroad bridge | *114
Approximately 0.75 mile upstream of State Route 111 | *176
Bartemus Brook:
At confluence with Nashua River | *165
At upstream corporate limits | *166
Lyle Reed Brook:
At confluence with Nashua River | *167
Approximately .075 mile upstream of State Route 111 | *167
Maps available for inspection at the Nashua City Hall, 229 Main Street, Nashua, New Hampshire.
NEW JERSEY
Berkeley (Township), Ocean County (FEMA Docket No. D-7512)
Atlantic Ocean:
At 10th Lane, extended | *16
Approximately 100 feet east of intersection of 10th Lane and East Central Avenue | #1
Barnegat Bay:
Shoreline at Balsem Drive, extended | *9
Approximately 1 mile northeast of Sedge Islands | *6
Maps available for inspection at the Berkeley Town Hall, 627 Pinewald-Keswick Road, Bayville, New Jersey 08721-0287.
NEW YORK
Fort Plain (Village), Montgomery County (FEMA Docket No. D-7514)
Otsquago Creek:
Approximately 540 feet upstream of the confluence with the Mohawk River | *306
Approximately 50 feet upstream of State Route 80 | *336
Maps available for inspection at the Fort Plain Village Hall, 168 Canal Street, Fort Plain, New York.
———
Herkimer (Village), Herkimer County (FEMA Docket No. D-7514)
West Canada Creek:
Approximately 600 feet downstream of East State Street (State Route 5) | *387
At the upstream corporate limits with the Town of Herkimer (approximately 1.36 miles upstream of East State Street) | *413
Maps available for inspection at the Herkimer Village Municipal Hall, 120 Green Street, Herkimer, New York.
———
Jay (Town), Essex County (FEMA Docket No. D-7514)
East Branch Ausable River:
At the confluence with Ausable River | *550
At the upstream corporate limits (approximately 2.24 miles upstream of NYS Route 9N) | *724
Ausable River:
At the downstream corporate limits | *491
At the confluence of East and West Branches of Ausable River | *550
Tributary to East Branch Ausable River:
At the confluence with East Branch Ausable River | *589
At NYS Route 9R | *765
West Branch Ausable River:
At the confluence with the Ausable River and East Branch Ausable River | *550
Approximately 250 feet upstream of the confluence with the Ausable River | *552
Maps available for inspection at the Jay Town Hall, School Street, Ausable Forks, New York.
PENNSYLVANIA
Bowmanstown (Borough), Carbon County (FEMA Docket No. D-7512)
Lehigh River:
Approximately 0.76 mile downstream of State Route 895 | *417
Approximately 0.49 mile upstream of State Route 895 | *432
Fireline Creek:
At confluence with Lehigh River | *424
Approximately 1,750 feet downstream of Cherry Hill Road | *545
Maps available for inspection at the Bowmanstown Borough Hall, Mill and Ore Streets, Bowmanstown, Pennsylvania.
———
East Penn (Township), Carbon County (FEMA Docket No. D-7512)
Lehigh River:
Approximately 1.7 miles downstream of Palmerton Dam | *388
Approximately 5,100 feet upstream of State Route 895 | *438
Maps available for inspection at the East Penn Township Building, 167 Municipal Road, Lehighton, Pennsylvania.
———
Franklin (Township), Carbon County (FEMA Docket No. D-7512)
Lehigh River:
Approximately 1 mile downstream of U.S. Route 209 | *452
Approximately 0.82 mile downstream of Lehigh Valley Railroad | *497
Maps available for inspection at the Franklin Township Hall, 900 Fairyland Road, Lehighton, Pennsylvania.
———
Jim Thorpe (Borough), Carbon County (FEMA Docket No. D-7512)
Lehigh River:
Approximately 0.82 mile downstream of Lehigh Valley Railroad | *497
Approximately 2 miles upstream of State Route 903 | *564
Maps available for inspection at the Jim Thorpe Borough Hall, 101 East Tenth Street, Jim Thorpe, Pennsylvania.
———
Lehighton (Borough), Carbon County (FEMA Docket No. D-7512)
Lehigh River:
Approximately 1,160 feet downstream of U.S. Route 209 | *464
Approximately 1.3 miles upstream of U.S. Route 209 | *482
Mahoning Creek:
At the confluence with Lehigh River | *464
Approximately 1,600 feet upstream of the confluence with Lehigh River | *464
Maps available for inspection at the Lehighton Borough Hall, 1 Constitution Avenue, Lehighton, Pennsylvania.
———
Lower Towamensing (Township), Carbon County (FEMA Docket No. D-7512)
Lehigh River:
Approximately 1.7 miles downstream of Palmerton Dam | *388
Approximately 620 feet downstream of Pennsylvania Turnpike | *443
Aquashicola Creek:
At the confluence with Lehigh River | *393
Approximately 2.3 miles upstream of State Route 2009 | *468
Fireline Creek:
Approximately 1,750 feet downstream of Cherry Hill Road | *545
Approximately 1.2 miles upstream of Cherry Hill Road | *687
Maps available for inspection at the Lower Towamensing Township Hall, 595 Hahns Dairy Road, Palmerton, Pennsylvania.
———
Mahoning (Township), Carbon County (FEMA Docket No. D-7512)
Lehigh River:
Approximately 5,100 feet upstream of State Route 895 | *438
Approximately 0.58 mile downstream of State Route 903 | *526
Mahoning Creek:
At the confluence with Lehigh River | *464
Approximately 500 feet upstream of confluence with Lehigh River | *464
Maps available for inspection at the Mahoning Township Office, 2685 Mahoning Drive East, Lehighton, Pennsylvania.
———
Nesquehoning (Borough), Carbon County (FEMA Docket No. D-7512)
Lehigh River:
Approximately 1,900 feet upstream of State Route 903 | *542
Approximately 2 miles upstream of State Route 903 | *564
Nesquehoning Creek:
At confluence with Lehigh River | *555
Approximately 1,850 feet upstream of Tonolli Corporate Road | *1,014
Maps available for inspection at the Nesquehoning Borough Hall, 114 West Catawissa, Nesquehoning, Pennsylvania.
———
Palmerton (Borough), Carbon County (FEMA Docket No. D-7512)
Lehigh River:
Approximately 5,070 feet downstream of Palmerton Dam | *395
Approximately 1.37 miles upstream of Palmerton Dam | *417
Aquashicola Creek:
Approximately 3,710 feet upstream of confluence with Lehigh River | *393
Approximately 1,000 feet downstream of CONRAIL | *418
Maps available for inspection at the Palmerton Borough Hall, 443 Delaware Avenue, Palmerton, Pennsylvania.
———
Parryville (Borough), Carbon County (FEMA Docket No. D-7512
Lehigh River:
Approximately 850 feet downstream of Pennsylvania Turnpike | *443
Approximately 1 mile downstream of U.S. Route 209 | *452
Pohopoco Creek:
At confluence with Lehigh River | *443
Approximately 1,175 feet upstream of confluence with Lehigh River | *443
Maps available for inspection at the Parryville Borough Hall, 967 Cherryhill Road, Parryville, Pennsylvania.
———
Weissport (Borough), Carbon County (FEMA Docket No. D-7512)
Lehigh River
Approximately 0.52 mile downstream of U.S. Route 209 | *460
Approximately 700 feet upstream Central Railroad | *475
Maps available for inspection at the Weissport Borough Hall, 440 Allen Street, Weissport, Pennsylvania.
VIRGINIA
Monterey (Town), Highland County (FEMA Docket No. D-7514)
West Strait Creek:
Approximately 650 feet downstream of U.S. Route 220 | *2,853
Approximately 630 feet upstream of the west stream crossing of Mill Alley | *2,967
Maps available for inspection at the Monterey Building and Zoning Department, Main Street, Monterey, Virginia.

(Catalog of Federal Domestic Assistance No. 83.100, “Flood Insurance.”)
Dated: January 29, 2002.
Robert F. Shea,
Acting Administrator, Federal Insurance and Mitigation Administration.

[FR Doc. 02-2664 Filed 2-4-02; 8:45 am]

BILLING CODE 6718-04-P